COMMISSION ON CIVIL RIGHTS

Notice of Public Meeting of the Arizona Advisory Committee; Cancellation

AGENCY: Commission on Civil Rights.

ACTION: Notice; cancellation of briefing; panel III.

SUMMARY: The Commission on Civil Rights published a notice in the Federal Register concerning the panel III briefing of the Arizona Advisory Committee on Monday, November 27, 2023 at 1:00 p.m. mountain standard time. The notice is in the Federal Register of Monday, October 30, 2023 in FR Doc. 2023-23891, in the third column of page 74145 and the first column of page 74146.

FOR FURTHER INFORMATION CONTACT: Kayla Fajota at kfajota@usccr.gov or (434) 515-2395.

Dated: November 22, 2023.
David Mussatt,
Supervisory Chief, Regional Programs Unit.

[FR Doc. 2023-26194 Filed 11-27-23; 8:45 am]

BILLING CODE P